DEPARTMENT OF HOMELAND SECURITY

Federal Emergency Management Agency

44 CFR Part 64

[Docket ID FEMA-2008-0020; Internal Agency Docket No. FEMA-8079]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region II
New Jersey:
Clementon, Borough of, Camden County | 340130 | January 30, 1975, Emerg; October 21, 1983, Reg; June 16, 2009, Susp. | June 16, 2009 | June 16, 2009
Gloucester, Township of, Camden County | 340133 | July 24, 1975, Emerg; December 1, 1982, Reg; June 16, 2009, Susp. | ......do* | Do.
Laurel Springs, Borough of, Camden County | 340547 | March 23, 1976, Emerg; May 13, 1977, Reg; June 16, 2009, Susp. | ......do | Do.
Lindenwold, Borough of, Camden County | 340137 | January 12, 1976, Emerg; September 17, 1980, Reg; June 16, 2009, Susp. | ......do | Do.
Pine Hill, Borough of, Camden County | 340143 | March 11, 1975, Emerg; February 24, 1978, Reg; June 16, 2009, Susp. | ......do | Do.
Stratford, Borough of, Camden County | 340146 | March 21, 1975, Emerg; September 17, 1980, Reg; June 16, 2009, Susp. | ......do | Do.
Region III
Pennsylvania:
Blain, Borough of, Perry County | 420748 | October 14, 1975, Emerg; June 24, 1977, Reg; June 16, 2009, Susp. | ......do | Do.
Bloomfield, Borough of, Perry County | 420748 | February 22, 1974, Emerg; March 1, 1978, Reg; June 16, 2009, Susp. | ......do | Do.
Buffalo, Township of, Perry County | 421948 | March 27, 1975, Emerg; August 15, 1980, Reg; June 16, 2009, Susp. | ......do | Do.
Carroll, Township of, Perry County | 421949 | February 18, 1976, Emerg; Reg; June 16, 2009, Susp. | ......do | Do.
Centre, Township of, Perry County | 422498 | August 12, 1975, Emerg; June 1, 1981, Reg; June 16, 2009, Susp. | ......do | Do.
Duncannon, Borough of, Perry County | 420749 | January 20, 1975, Emerg; December 18, 1979, Reg; June 16, 2009, Susp. | ......do | Do.
Greenwood, Township of, Perry County | 421950 | August 12, 1975, Emerg; May 19, 1981, Reg; June 16, 2009, Susp. | ......do | Do.
Howe, Township of, Perry County | 421145 | April 4, 1974, Emerg; August 15, 1979, Reg; June 16, 2009, Susp. | ......do | Do.
Jackson, Township of, Perry County | 421952 | January 28, 1976, Emerg; October 15, 1985, Reg; June 16, 2009, Susp. | ......do | Do.
Juniata, Township of, Perry County | 421140 | March 16, 1974, Emerg; May 1, 1978, Reg; June 16, 2009, Susp. | ......do | Do.
Liverpool, Borough of, Perry County | 420750 | March 20, 1974, Emerg; August 15, 1979, Reg; June 16, 2009, Susp. | ......do | Do.
Liverpool, Township of, Perry County | 421953 | February 5, 1975, Emerg; June 18, 1980, Reg; June 16, 2009, Susp. | ......do | Do.
Marysville, Borough of, Perry County | 420751 | February 9, 1973, Emerg; May 16, 1977, Reg; June 16, 2009, Susp. | ......do | Do.
Miller, Township of, Perry County | 421954 | March 21, 1977, Emerg; April 15, 1981, Reg; June 16, 2009, Susp. | ......do | Do.
Millerstown, Borough of, Perry County | 420752 | November 17, 1975, Emerg; May 19, 1981, Reg; June 16, 2009, Susp. | ......do | Do.
New Buffalo, Borough of, Perry County | 420753 | February 5, 1975, Emerg; April 2, 1979, Reg; June 16, 2009, Susp. | ......do | Do.
Newport, Borough of, Perry County | 420754 | March 2, 1973, Emerg; August 15, 1979, Reg; June 16, 2009, Susp. | ......do | Do.
Northeast Madison, Township of, Perry County | 421955 | September 12, 1975, Emerg; September 4, 1985, Reg; June 16, 2009, Susp. | ......do | Do.
Oliver, Township of, Perry County | 421022 | November 12, 1973, Emerg; August 15, 1979, Reg; June 16, 2009, Susp. | ......do | Do.
Penn, Township of, Perry County | 420755 | July 5, 1973, Emerg; February 18, 1981, Reg; June 16, 2009, Susp. | ......do | Do.
Rye, Township of, Perry County | 421028 | October 5, 1973, Emerg; August 15, 1979, Reg; June 16, 2009, Susp. | ......do | Do.
Saville, Township of, Perry County | 421956 | July 23, 1975, Emerg; March 4, 1988, Reg; June 16, 2009, Susp. | ......do | Do.
Southwest Madison, Township of, Perry County | 421957 | July 2, 1975, Emerg; August 19, 1985, Reg; June 16, 2009, Susp. | ......do | Do.
Spring, Township of, Perry County | 421958 | September 10, 1975, Emerg; November 12, 1982, Reg; June 16, 2009, Susp. | ......do | Do.
Toboyne, Township of, Perry County | 421959 | September 8, 1981, Emerg; September 4, 1985, Reg; June 16, 2009, Susp. | ......do | Do.
Tuscarora, Township of, Perry County | 421960 | April 14, 1976, Emerg; November 19, 1982, Reg; June 16, 2009, Susp. | ......do | Do.
Tyrone, Township of, Perry County | 421961 | February 22, 1977, Emerg; March 4, 1988, Reg; June 16, 2009, Susp. | ......do | Do.
Watts, Township of, Perry County | 420756 | May 24, 1973, Emerg; August 15, 1979, Reg; June 16, 2009, Susp. | ......do | Do.
Wheatfield, Township of, Perry County | 421035 | October 29, 1971, Emerg; December 18, 1979, Reg; June 16, 2009, Susp. | ......do | Do.
Virginia:
Cumberland County, Unincorporated Areas | 510043 | March 12, 1974, Emerg; February 15, 1979, Reg; June 16, 2009, Susp. | ......do | Do.
King and Queen County, Unincorporated Areas | 510082 | June 20, 1974, Emerg; September 5, 1990, Reg; June 16, 2009, Susp. | ......do | Do.
York County, Unincorporated Areas | 510182 | October 5, 1973, Emerg; December 16, 1988, Reg; June 16, 2009, Susp. | ......do | Do.
Region IV
Alabama:
Millbrook, City of, Autauga County | 010370 | October 18, 1979, Emerg; August 15, 1984, Reg; June 16, 2009, Susp. | ......do | Do.
Prattville, City of, Autauga County | 010002 | June 18, 1974, Emerg; August 15, 1978, Reg; June 16, 2009, Susp. | ......do | Do.
Kentucky: Crittenden County, Unincorporated Areas | 210254 | October 7, 1997, Emerg; April 1, 1999, Reg; June 16, 2009, Susp. | ......do | Do.
Mississippi:
Biloxi, City of, Harrison County | 285252 | June 30, 1970, Emerg; September 11, 1970, Reg; June 16, 2009, Susp. | ......do | Do.
D'iberville, City of, Harrison County | 280336 | November 14, 1988, Emerg; November 14, 1988, Reg; June 16, 2009, Susp. | ......do | Do.
Gulfport, City of, Harrison County | 285253 | May 29, 1970, Emerg; September 11, 1970, Reg; June 16, 2009, Susp. | ......do | Do.
Harrison County, Unincorporated Areas | 285255 | July 17, 1970, Emerg; June 15, 1978, Reg; June 16, 2009, Susp. | ......do | Do.
Long Beach, City of, Harrison County | 285257 | June 19, 1970, Emerg; September 11, 1970, Reg; June 16, 2009, Susp. | ......do | Do.
Pass Christian, City of, Harrison County | 285261 | May 26, 1970, Emerg; May 26, 1970, Reg; June 16, 2009, Susp. | ......do | Do.
North Carolina:
China Grove, Town of, Rowan County | 370210 | December 21, 1978, Emerg; December 21, 1978, Reg; June 16, 2009, Susp. | ......do | Do.
East Spencer, Town of, Rowan County | 370211 | March 31, 1975, Emerg; July 3, 1978, Reg; June 16, 2009, Susp. | ......do | Do.
Faith, Town of, Rowan County | 370352 | NA, Emerg; November 26, 2002, Reg; June 16, 2009, Susp. | ......do | Do.
Granite Quarry, Town of, Rowan County | 370212 | May 1, 1975, Emerg; September 15, 1978, Reg; June 16, 2009, Susp. | ......do | Do.
Landis, Town of, Rowan County | 370213 | March 31, 1975, Emerg; July 3, 1978, Reg; June 16, 2009, Susp. | ......do | Do.
Rockwell, Town of, Rowan County | 370214 | May 13, 1975, Emerg; May 15, 1978, Reg; June 16, 2009, Susp. | ......do | Do.
Rowan County, Unincorporated Areas | 370351 | August 23, 1976, Emerg; November 1, 1979, Reg; June 16, 2009, Susp. | ......do | Do.
Salisbury, City of, Rowan County | 370215 | July 23, 1974, Emerg; May 15, 1980, Reg; June 16, 2009, Susp. | ......do | Do.
Spencer, Town of, Rowan County | 370216 | April 7, 1975, Emerg; September 29, 1978, Reg; June 16, 2009, Susp. | ......do | Do.
Tennessee: Mountain City, City of, Johnson County | 470275 | May 8, 1975, Emerg; August 5, 1986, Reg; June 16, 2009, Susp. | ......do | Do.
Region V
Ohio:
Aquilla, Village of, Geauga County | 390739 | May 3, 1976, Emerg; December 7, 1984, Reg; June 16, 2009, Susp. | ......do | Do.
Chardon, City of, Geauga County | 390191 | June 25, 1975, Emerg; January 4, 1985, Reg; June 16, 2009, Susp. | ......do | Do.
Geauga County, Unincorporated Areas | 390190 | February 18, 1977, Emerg; November 4, 1988, Reg; June 16, 2009, Susp. | ......do | Do.
Middlefield, Village of, Geauga County | 390192 | March 10, 1975, Emerg; September 30, 1988, Reg; June 16, 2009, Susp. | ......do | Do.
South Russell, Village of, Geauga County | 390740 | July 2, 1976, Emerg; —, Reg; June 16, 2009, Susp. | ......do | Do.
Region VI
Arkansas:
Marmaduke, City of, Greene County | 050346 | April 7, 1976, Emerg; June 1, 1987, Reg; June 16, 2009, Susp. | ......do | Do.
Paragould, City of, Greene County | 050085 | June 27, 1973, Emerg; June 15, 1978, Reg; June 16, 2009, Susp. | ......do | Do.
Sedgwick, City of, Greene County | 050576 | February 1, 1988, Emerg; —, Reg; June 16, 2009, Susp. | ......do | Do.
Region IX
California:
Antioch, City of, Contra Costa County | 060026 | May 1, 1975, Emerg; December 2, 1980, Reg; June 16, 2009, Susp. | ......do | Do.
Corcoran, City of, Kings County | 060663 | NA , Emerg; November 28, 1997, Reg; June 16, 2009, Susp. | ......do | Do.
Dinuba, City of, Tulare County | 060403 | June 26, 1975, Emerg; November 3, 1982, Reg; June 16, 2009, Susp. | ......do | Do.
El Cerrito, City of, Contra Costa County | 065027 | March 5, 1971, Emerg; June 1, 1977, Reg; June 16, 2009, Susp. | ......do | Do.
Hercules, City of, Contra Costa County | 060434 | July 25, 1975, Emerg; September 30, 1982, Reg; June 16, 2009, Susp. | ......do | Do.
Pleasant Hill, City of, Contra Costa County | 060034 | March 19, 1971, Emerg; September 30, 1983, Reg; June 16, 2009, Susp. | ......do | Do.
Region X
Idaho:
Cambridge, City of, Washington County | 160199 | August 27, 1976, Emerg; February 19, 1987, Reg; June 16, 2009, Susp. | ......do | Do.
Midvale, City of, Washington County | 160123 | May 7, 1975, Emerg; February 19, 1987, Reg; June 16, 2009, Susp. | ......do | Do.
Washington County, Unincorporated Areas | 160221 | February 2, 1976, Emerg; February 19, 1987, Reg; June 16, 2009, Susp. | ......do | Do.
Weiser, City of, Washington County | 160124 | December 4, 1974, Emerg; February 19, 1987, Reg; June 16, 2009, Susp. | ......do | Do.
* do=Ditto.
Code for reading third column: Emerg.—Emergency; Reg.—Regular; Susp.—Suspension.

Dated: June 8, 2009.
Edward L. Connor,
Acting Assistant Administrator Mitigation Directorate Department of Homeland Security, Federal Emergency Management Agency.

[FR Doc. E9-14271 Filed 6-16-09; 8:45 am]

BILLING CODE 9110-12-P